DEPARTMENT OF DEFENSE

Department of the Army

Privacy Act of 1974; System of Records

AGENCY: Department of the Army, DoD.

ACTION: Notice to amend systems of records.

SUMMARY: The Department of the Army is amending systems of records notices in its existing inventory of record systems subject to the Privacy Act of 1974, (5 U.S.C. 552a), as amended.

DATES: This proposed action will be effective without further notice on January 2, 2001. Unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records systems being amended are set forth below followed by the notice, as amended, published in its entirety. The proposed amendments are not within the purview of subsection (r) of the Privacy Act of 1974, (5 U.S.C. 552a), as amended, which requires the submission of a new or altered system report.

Dated: November 22, 2000.
L.M. Bynum,
Alternate OSD Federal Register Liaison Officer, Department of Defense.

A0351b TRADOC

System name:

Army Correspondence Course Program (ACCP) (December 23, 1997, 62 FR 67055).

Changes:

* * * * *

System location:

Delete entry and replace with ‘Commander, U.S. Army Training Support Center, 3306 Wilson Avenue, Fort Eustis, VA 23604-5166.’

* * * * *

Safeguards:

Delete entry and replace with ‘Use of individual user identification and passwords are required to access the system. Access is granted to designated personnel at the Army Institute for Professional Development responsible for the administration and processing of non-resident students. Access is also granted to students and former students for the purpose of enrolling, testing, monitoring status, and reviewing academic history.’

Retention and disposal:

Delete entry and replace with ‘Student records indicating courses attended, course length, extent of completion, results, aptitudes and personal qualities, grade, rating attained, and related information destroy after 40 years. Cut off annually. Records of extension courses, however, will be held for 3 years in current file area and 2 years in records holding area before retirement to National Personnel Records Center, 9700 Page Avenue, St. Louis, MO 63132-5100.’

* * * * *

A0351b TRADOC

System name:

Army Correspondence Course Program (ACCP).

System location:

Commander, U.S. Army Training Support Center, 3306 Wilson Avenue, Fort Eustis, VA 23604-5166.

Categories of individuals covered by the system:

Members of the Army, Navy, Marine Corps, and Air Force, Reserve Officer Training Corps and National Defense Cadet Corps students, Department of Defense civilian employees, and approved foreign military personnel enrolled in a non-resident course administered by the Army Institute for Professional Development.

Categories of records in the system:

Files contain name, grade/rank, Social Security Number, address, service component, branch, personnel classification, military occupational specialty, credit hours accumulated, examination and lesson grades, student academic status, curricula, course description.

Authority for maintenance of the system:

10 U.S.C. 3013, Secretary of the Army; Department of the Army Pamphlet 350-59, Army Correspondence Course Program Catalog; and E.O. 9397 (SSN).

Purpose(s):

To record lessons and/or exam grades; maintain student academic status; course and subcourse descriptions; produce course completion certificates and reflect credit hours earned; and produce management summary reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and practices for storing, retrieving, accessing, retaining, and disposing of records in the system:

Storage:

Magnetic tapes, discs, paper printouts, and microfiche.

Retrievability:

By name and Social Security Number.

Safeguards:

Use of individual user identification and passwords are required to access the system. Access is granted to designated personnel at the Army Institute for Professional Development responsible for the administration and processing of non-resident students.

Access is also granted to students and former students for the purpose of enrolling, testing, monitoring status, and reviewing academic history.

Retention and disposal:

Student records indicating courses attended, course length, extent of completion, results, aptitudes and personal qualities, grade, rating attained, and related information destroy after 40 years. Cut off annually. Records of extension courses, however, will be held for 3 years in current file area and 2 years in records holding area before retirement to National Personnel Records Center, 9700 Page Avenue, St. Louis, MO 63132-5100.

System manager(s) and address:

Commander, Army Training Support Center, 667 Monroe Avenue, Fort Eustis, VA 23604-5040.

Notification procedure:

Individuals seeking to determine whether information about themselves is contained in this system should address written inquiries to the Commander, U.S. Army Training Support Center, 3306 Wilson Avenue, Fort Eustis, VA 23604-5166.

Individual should provide full name, Social Security Number, and signature for identification.

Individual making request in person must provide acceptable identification such as driver's license and military identification.

Record access procedures:

Individuals seeking access to information about themselves contained in this system should address written inquiries to the Commander, U.S. Army Training Support Center, 3306 Wilson Avenue, Fort Eustis, VA 23604-5166.

Individual should provide full name, Social Security Number, and signature for identification.

Individual making request in person must provide acceptable identification such as driver's license and military identification.

Contesting record procedures:

The Army's rules for accessing records, contesting content, and appealing initial agency determinations are contained in Army Regulation 340-21; 32 CFR part 505; or may be obtained from the system manager.

Record source categories:

From individual upon enrollment, from class records and instructors, and from graded examinations.

Exemptions claimed for the system:

None.

A0351c TRADOC

System name:

Standardized Student Records System (February 2, 1996, 61 FR 3918).

Changes:

* * * * *

Categories of individuals covered by the system:

Delete entry and replace with “Persons who have been enrolled for foreign language training at the Defense Language Institute Foreign Language Center.”

Categories of records in the system:

Delete entry and replace with “Individual’s name, Social Security Number, and military administrative data, together with academic data generated at Defense Language Institute Foreign Language Center.”

* * * * *

Storage:

Delete entry and replace with “Paper records in file folders stored in file cabinets, magnetic tapes, discs, CD-ROM and computer.”

Retrievability:

Delete entry and replace with “By Social Security Number, name, service number, class number, language and year.”

* * * * *

Retention and disposal:

Delete entry and replace with ‘Disposition pending (until the National Archives and Records Administration approves retention and disposal schedule, records will be treated as permanent).

* * * * *

A0351c TRADOC

System name:

Standardized Student Records System.

System location:

Commandant, Defense Language Institute Foreign Language Center, 1330 Plummer Street, Monterey, CA 93944-3326.

Categories of individuals covered by the system:

Persons who have been enrolled for foreign language training at the Defense Language Institute Foreign Language Center.

Categories of records in the system:

Individual’s name, Social Security Number, and military administrative data, together with academic data generated at Defense Language Institute Foreign Language Center.

Authority for maintenance of the system:

10 U.S.C. 3013, Secretary of the Army; Army Regulation 350-20, Management of the Defense Foreign Language Program; and E.O. 9397 (SSN).

Purpose(s):

To establish a permanent student record used for issuing official grade transcripts and preparing statistical studies to improve training and testing methods.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders stored in file cabinets, magnetic tapes, discs, CD-ROM and computer.

Retrievability:

By Social Security Number, name, service number, class number, language and year.

Safeguards:

Records are accessible via remote terminal only by authorized personnel citing established user identifier and password.

Retention and disposal:

Disposition pending (until the National Archives and Records Administration approves retention and disposal schedule, records will be treated as permanent).

System manager(s) and address:

Commander, Defense Language Institute Foreign Language Center and Presidio of Monterey, 360 Patton Avenue, Monterey CA 93944-5000.

Notification procedure:

Individuals seeking to determine whether information about themselves is contained in this system should address written inquiries to the Commandant, Defense Language Institute Foreign Language Center, Academic Records, 1330 Plummer Street, Monterey, CA 93944-3326.

Individual should provide the full name, current address and telephone number, Social Security Number, class attended, and year graduated.

Record access procedures:

Individuals seeking access to information about themselves contained in this system should address written inquiries to the Commandant, Defense Language Institute Foreign Language Center, Academic Records, 1330 Plummer Street, Monterey, CA 93944-3326.

Individual should provide the full name, current address and telephone number, Social Security Number, class attended, and year graduated.

Contesting record procedures:

The Army's rules for accessing records, contesting contents, and appealing initial agency determinations are contained in Army Regulation 340-21; 32 CFR part 505; or may be obtained from the system manager.

Record source categories:

From the individual; staff and faculty.

Exemptions claimed for the system:

None.

[FR Doc. 00-30470 Filed 11-30-00; 8:45 am]

BILLING CODE 5001-10-P